DEPARTMENT OF ENERGY

10 CFR Parts 429 and 431

[EERE-2017-BT-TP-0031]

RIN 1904-AE06

Energy Conservation Program: Test Procedure for Air-Cooled, Three-Phase, Small Commercial Package Air Conditioning and Heating Equipment With a Cooling Capacity of Less Than 65,000 Btu/h and Air-Cooled, Three-Phase, Variable Refrigerant Flow Air Conditioners and Heat Pumps With a Cooling Capacity of Less Than 65,000 Btu/h

Correction

In rule document 2022-26418, appearing on pages 77298 through 77328 in the issue of Friday, December 16, 2022, make the following correction:

Appendix F to Subpart F of Part 431 [Corrected]

On page 77327, in Appendix F to Subpart F of Part 431, in the first column, in amendatory instruction 13, the appendix head should read:

Appendix F to Subpart F of Part 431—Uniform Test Method for the Measurement of Energy Consumption of Air-Cooled, Three-Phase, Small Commercial Package Air Conditioning and Heating Equipment With a Cooling Capacity of Less Than 65,000 Btu/h and Air-Cooled, Three-Phase, Variable Refrigerant Flow Multi-Split Air Conditioners and Heat Pumps With a Cooling Capacity of Less Than 65,000 Btu/h

[FR Doc. C1-2022-26418 Filed 12-21-22; 8:45 am]

BILLING CODE 0099-10-P